GENERAL SERVICES ADMINISTRATION

48 CFR Parts 552 and 538

[OMB Control No. 3090-00XX; Docket 2012-0001; Sequence 21]

General Services Administration Acquisition Regulation: Modifications (Multiple Award Schedules); Information Collection

AGENCY: Office of Acquisition Policy, General Services Administration (GSA).

ACTION: Request for public comments on an information collection requirement for a new OMB clearance.

SUMMARY: Under the provisions of the Paperwork Reduction Act, the Regulatory Secretariat will be submitting to the Office of Management and Budget (OMB) a request to review and approve an information collection requirement regarding General Services Administration Acquisition Regulation (GSAR) clause Modifications (Multiple Award Schedule).

DATES: Submit comments on or before: February 15, 2013.

FOR FURTHER INFORMATION CONTACT: Ms. Dana Munson, General Services Acquisition Policy Division, GSA, (202) 357-9652 or email Dana.Munson@gsa.gov for clarification of content. For information pertaining to status or publication schedules, contact the Regulatory Secretariat at 202-501-4755. Please cite information collection 3090-00XX.

ADDRESSES: Submit comments identified by Information Collection 3090-00XX, Modifications, by any of the following methods:

• Regulations.gov: http://www.regulations.gov. Submit comments via the Federal eRulemaking portal by searching the OMB control number. Select the link “Submit a Comment” that corresponds with “Information Collection 3090-00XX, Modifications”. Follow the instructions provided at the “Submit a Comment” screen. Please include your name, company name (if any), and “Information Collection 3090-00XX, Modifications” on your attached document.

• Mail: General Services Administration, Regulatory Secretariat (MVCB), 1275 First Street NE., Washington, DC 20417. ATTN: Hada Flowers/IC 3090-00XX, Modifications.

Instructions: Please submit comments only and cite Information Collection 3090-00XX, Modifications, in all correspondence related to this collection. All comments received will be posted without change to http://www.regulations.gov, including any personal and/or business confidential information provided.

SUPPLEMENTARY INFORMATION: Public comments are invited on: (1) Whether this collection of information is necessary and whether it will have practical utility; (2) whether our estimate of the public burden of this collection of information is accurate, and based on valid assumptions and methodology; and (3) to identify ways to enhance the quality, utility, and clarity of the information to be collected.

A. Purpose

GSA is proposing to amend the General Services Administration Acquisition Regulation (GSAR) to add clause 552.243-72; Modifications (Multiple Award Schedules). Under the modifications clause, vendors may request a contract modification by submitting a request to the Contracting Officer for approval. At a minimum, every request shall describe the proposed change(s) and provide the rationale for the requested change(s).

B. Annual Reporting Burden

Respondents: 20,500.

Responses per Respondent: 3.

Total Responses: 61,500.

Hours per Response: 5.

Total Burden Hours: 307,000.

Obtaining Copies of Proposals

Requesters may obtain a copy of the information collection documents from the General Services Administration, Regulatory Secretariat (MVCB), 1275 First Street NE., Washington, DC 20417; telephone (202) 501-4755. Please cite OMB Control No. 3090-XXXX, “Modifications” in all correspondence.

Dated: December 10, 2012.
Joseph A. Neurauter,
Director, Office of Acquisition Policy, Senior Procurement Executive.

[FR Doc. 2012-30205 Filed 12-14-12; 8:45 am]

BILLING CODE 6820-61-P